INTERNATIONAL TRADE COMMISSION

[Investigation No. 731-TA-244 (Second Review)]

Natural Bristle Paintbrushes From China

AGENCY: United States International Trade Commission.

ACTION: Revised schedule for the subject review.

EFFECTIVE DATE: September 17, 2004.

FOR FURTHER INFORMATION CONTACT: Debra Baker ((202) 205-3180 or Debra.Baker@usitc.gov), Office of Investigations, U.S. International Trade Commission, 500 E Street SW., Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its Internet server (http://www.usitc.gov). The public record for this investigation may be viewed on the Commission's electronic docket (EDIS) at http://edis.usitc.gov.

SUPPLEMENTARY INFORMATION: On August 6, 2004, the Commission established a schedule for the conduct of the subject expedited five-year review (69 FR 51474, August 19, 2004). Subsequently, on September 7, 2004, the Department of Commerce (Commerce) determined that its review is extraordinarily complicated and extended the time limit for its final results in the expedited five-year review from August 31, 2004, to not later than October 15, 2004 (69 FR 54118). The Commission, therefore, has determined to exercise its authority to extend the review period by up to 90 days pursuant to 19 U.S.C. 1675(c)(5)(B) ¹ and is revising its schedule to reflect Commerce's extension of the time limit for the final results of its expedited sunset review.

¹ As a transition order five-year review, the Commission determines that the subject review is extraordinarily complicated pursuant to section 751(c)(5)(C) of the Tariff Act of 1930.

As provided for in the Commission's original scheduling notice (69 FR 51474, August 19, 2004), final party comments concerning Commerce's final results of its expedited sunset review are due three business days after the issuance of Commerce's results.

For further information concerning this expedited review see the Commission's notice cited above and the Commission's Rules of Practice and Procedure, part 201, subparts A through E (19 CFR part 201), and part 207, subparts A and C (19 CFR part 207).

Authority: This review is being conducted under authority of title VII of the Tariff Act of 1930; this notice is published pursuant to section 207.62 of the Commission's rules.

Issued: September 20, 2004.
By order of the Commission.
Marilyn R. Abbott,
Secretary to the Commission.

[FR Doc. 04-21392 Filed 9-22-04; 8:45 am]

BILLING CODE 7020-02-P